DEPARTMENT OF TRANSPORTATION

Federal Railroad Administration

Petition for Waiver of Compliance

In accordance with part 211 of title 49 Code of Federal Regulations (CFR), notice is hereby given that the Federal Railroad Administration (FRA) received a request for a waiver of compliance with certain requirements of its safety standards. The individual petition is described below, including the party seeking relief, the regulatory provisions involved, the nature of the relief being requested, and the petitioner's arguments in favor of relief.

Wallowa Union Railroad (WURR)

[Waiver Petition Docket Number FRA-2004-18494]

Wallowa Union Railroad seeks a waiver of compliance from certain provisions of the Safety Glazing Standards, 49 CFR Part 223, which requires certified glazing in all windows. The railroad operates an excursion train that consists of trips ranging from five miles to sixty miles and mainly runs through pastures or river canyons. Speeds are approximately 10 mph; however, there is a relatively straight section of track between MP 57 and MP 83 that is operated at 15 mph. The largest town that the railroad runs through has a population of 2,020 with the county having a population of just over 7,000. Two of the total sixty-three miles of track are located within the largest town. The most frequently used public grade crossing has an ADT of 3,250.

This request is for one locomotive, specifically locomotive number WURR 1120, which was originally purchased from the Idaho Northern and Pacific Railroad in May, 2003. The engine was built by Pullman, standard in 1947 and has no glazing material in the side facing windows. The company claims that the railroad is located in rural Northeastern Oregon with very limited access to the line outside of the railroad itself.

The railroad also requests that two locomotives, the above mentioned WURR 1120 as well as WURR 2636, both built in 1947, be classified as antiquated equipment that is used only for excursion purposes per 49 CFR 223.3 (b)3.

Interested parties are invited to participate in these proceedings by submitting written views, data, or comments. FRA does not anticipate scheduling a public hearing in connection with these proceedings since the facts do not appear to warrant a hearing. If any interested party desires an opportunity for oral comment, they should notify FRA, in writing, before the end of the comment period and specify the basis for their request.

All communications concerning these proceedings should identify the appropriate docket number (e.g., Waiver Petition Docket Number 2004-18494) and must be submitted to the Docket Clerk, DOT Docket Management Facility, Room PL-401 (Plaza Level), 400 7th Street, SW., Washington, DC 20590. Communications received within 45 days of the date of this notice will be considered by FRA before final action is taken. Comments received after that date will be considered as far as practicable. All written communications concerning these proceedings are available for examination during regular business hours (9 a.m.-5 p.m.) at the above facility. All documents in the public docket are also available for inspection and copying on the Internet at the docket facility's Web site at http://dms.dot.gov.

Anyone is able to search the electronic form of all comments received into any of our dockets by the name of the individual submitting the comment (or signing the comment, if submitted on behalf of an association, business, labor union, etc.). You may review DOT's complete Privacy Act Statement in the Federal Register published on April 11, 2000 (Volume 65, Number 70; Pages 19477-78). The Statement may also be found at http://dms.dot.gov.

Issued in Washington, DC, on August 2, 2004.
Grady C. Cothen, Jr.,
Acting Associate Administrator for Safety.

[FR Doc. 04-18198 Filed 8-9-04; 8:45 am]

BILLING CODE 4910-06-P